DEPARTMENT OF AGRICULTURE

Agricultural Marketing Service

[Doc. No. AMS-FGIS-24-0066]

Opportunity for United States Grain Standards Act Designation in the Evansville, Indiana Area and Amendment to Notice of Opportunity for the Fargo, North Dakota Area

AGENCY: Agricultural Marketing Service, USDA.

ACTION: Notice and request for comments and applications; Amendment to prior opportunity for designation for Fargo, North Dakota area.

SUMMARY: The United States Grain Standards Act (USGSA) designations for two official agencies, Ohio Valley Grain Inspection, Inc. (Ohio Valley Grain Inspection) and North Dakota Grain Inspection Service, Inc. (North Dakota Grain Inspection Service), will end on the dates listed in the SUPPLEMENTARY INFORMATION section below. The Agricultural Marketing Service (AMS) is requesting designation applications from private entities or state governmental agencies that would like to provide official inspection and weighing services for the areas presently served by these two agencies. In addition to this request for applications, AMS seeks comments on the quality of services provided by Ohio Valley Grain Inspection and North Dakota Grain Inspection Service. AMS is also amending the description of the Fargo, North Dakota area that was offered for designation in the July 18, 2024 edition of the Federal Register.

DATES: Applications and comments for the areas of designation terminating on July 31, 2025, currently serviced by Ohio Valley Grain Inspection, must be received between March 1, 2025, and March 31, 2025.

Applications and comments for the areas of designation terminating on December 31, 2025, currently serviced by North Dakota Grain Inspection Service, must be received between August 1, 2025, and August 31, 2025.

ADDRESSES: Submit applications and comments concerning this Notice using the following methods:

To apply for USGSA designation: New applicants (not currently designated) seeking designation or currently designated applicants seeking to apply for designation in a new geographic area can find detailed instructions at https://www.ams.usda.gov/sites/default/files/media/FGISApplyingforDesignation_NewApplicants.pdf. Currently designated applicants intending to re-apply for their existing designated geographic area, can find re-application instructions at https://www.ams.usda.gov/sites/default/files/media/FGISApplyingforDesignationPreviousApplicants.pdf. Applicants must have a Login.gov account, a MyFGIS number, and access to FGISonline Delegations/Designations and Export Registrations (DDR) prior to applying. Applicants are encouraged to begin the application process early to allow time for system authentication.

To submit comments regarding currently designated official agencies: Go to regulations.gov (https://www.regulations.gov). Instructions for submitting and reading comments are detailed on the website. All comments must be submitted through the Federal e-rulemaking portal at https://www.regulations.gov and reference the document number and the date and page number of this issue of the Federal Register. All comments submitted in response to this notice will be included in the record and will be made available to the public. Please be advised that the identity of the individuals or entities submitting comments will be made public on the internet at the address provided above.

Read applications and comments: To view the applications submitted, please contact FGISQACD@usda.gov. All comments will be available for public viewing online at https://www.regulations.gov.

FOR FURTHER INFORMATION CONTACT: Jennifer Weiland, Grain Marketing Specialist, Telephone 202-989-5995; email: Jennifer.j.weiland@usda.gov or FGISQACD@usda.gov.

SUPPLEMENTARY INFORMATION: Section 7(f) of the USGSA authorizes the Secretary of Agriculture to designate a qualified state or local governmental agency, or person, to provide official services in a specified area after determining the applicant meets specified criteria and is better able than any other applicant to provide such official services (7 U.S.C. 79(f)). A designated agency works under the supervision of AMS's Federal Grain Inspection Service (FGIS) and is authorized to provide official inspection services and/or Class X or Class Y weighing services at locations other than export port locations. Under section 7(g) of the USGSA, designations of official agencies may be awarded for no longer than five years but may be renewed according to the criteria and procedures prescribed in section 7(f) of the USGSA (7 U.S.C. 79(f)-(g)). For more information about designation procedures, please see 7 CFR 800.196.

AMS encourages application submissions from traditionally underrepresented individuals, organizations, and businesses to reflect the diversity of the grain industry. The Agency welcomes submissions from qualified applicants, regardless of race, color, age, sex, sexual orientation, gender identity, national origin, religion, disability status, protected veteran status, or any other characteristic protected by law.

Designation Application Locations

Below are the currently operating designated official agencies and the specific areas of operation for designation applications. These are listed in order of anticipated designation termination date.

Ohio Valley Grain Inspection: In Indiana: Daviess, Dubois, Gibson, Knox (except the area west of US-41 and north of US-50), Pike, Posey, Vanderburgh, and Warrick Counties. In Kentucky: Caldwell, Christian, Crittenden, Henderson, Hopkins (west of KY-109 south of the Wendell H Ford Western Kentucky Parkway), Logan, Todd, Union, and Webster (west of US-41A and CR 814) Counties. In Tennessee: Cheatham, Davidson, and Robertson Counties.

North Dakota Grain Inspection Service: In Illinois: Bond, Calhoun, Clay, Clinton, Crawford (south of IL-33), Cumberland, Edwards, Effingham, Fayette, Franklin, Gallatin, Hamilton, Jackson (north of IL-3, IL-149, IL-13 and east of US-51)), Jasper, Jefferson, Jersey, Lawrence (west of IL-33 south to US-50), Madison, Marion, Monroe, Montgomery (south of IL-16, west and south of CR 6 to CR 7, east of CR 7, and south of CR 15), Perry, Randolph (north of IL-150 and northeast of IL-3), Richland, Saline, St. Clair, Wabash, Washington, Wayne, White, and Williamson Counties.

In Indiana: Adams, Allen, Bartholomew, Blackford, Boone, Brown, Carroll, Cass, Clinton, DeKalb, Delaware, Fayette, Fountain (east of U.S. Route 41), Fulton, Grant, Hamilton, Hancock, Hendricks, Henry, Howard, Huntington, Jay, Johnson, Kosciusko, LaGrange, Madison, Marion, Miami, Monroe, Montgomery, Morgan, Noble, Randolph, Rush (north of State Route 244), Shelby, Stueben, Tippecanoe, Tipton, Union, Wabash, Wayne, Wells, and Whitley Counties.

In Michigan: Clinton (east of US-127), Genesee, Huron (east of MI-53), Ingham (east of US-127), Jackson (east of US-127), Lapeer, Lenawee, Livingston, Macomb, Monroe, Oakland, Sanilac (east of MI-53 and south of MI-46), Shiawassee (south of MI-21 and east of MI-52), St. Clair, Tuscola (south of MI-46, east of Sheridan Road, south of Barnes Road, and east of MI-15), Washtenaw, and Wayne Counties.

In Minnesota: Aitkin, Becker, Carlton, Cass, Clay, Cook, Crow Wing, Hubbard, Itasca, Koochiching, Lake, Mahnomen, Norman, Otter Tail, St. Louis, Wadena, and Wilkin Counties.

In North Dakota: Barnes (east of ND-1 north and south of I-94), Cass, Dickey (east of ND-1), Griggs (south and east of ND-45, east of ND-1 and south of ND-200), LaMoure (east of ND-1), Ransom, Richland, Sargent, Steele, and Traill Counties.

In Ohio: Adams (northeast of OH-73), Ashland, Ashtabula, Athens, Belmont, Carroll, Champaign (east of Valley Pike Road, east of OH-560 and north of US-36), Clark (east of US-68), Clinton (east of OH-73, north of US-22, east of US-68), Columbiana, Coshocton, Crawford, Cuyahoga, Darke, Delaware, Erie, Fairfield, Fayette, Franklin, Gallia, Geauga, Greene (east of US-68), Guernsey, Hancock, Hardin (east of US-68), Harrison, Highland (east of OH-73), Hocking, Holmes, Huron, Jackson, Jefferson, Knox, Lake, Lawrence, Licking, Logan (south of OH-47, east of US-68), Lorain, Lucas, Madison, Mahoning, Marion, Medina, Meigs, Monroe, Morgan, Morrow, Muskingum, Noble, Ottawa, Perry, Pickaway, Pike, Portage, Richland, Ross, Sandusky, Scioto, Seneca, Shelby (east of I-75, southeast of OH-47, includes all of Sidney, OH), Stark, Summit, Trumbull, Tuscarawas, Union, Vinton, Washington, Wayne, Wood, and Wyandot Counties.

Amendment to the Geographic Description of the Fargo, North Dakota Area

The foregoing description of the Fargo, North Dakota area, currently assigned to North Dakota Grain Inspection Service, reflects an amended description of the area as it was offered for designation in the July 18, 2024 edition of the Federal Register (89 FR 58327). On August 1, 2024, North Dakota Grain Inspection Service purchased Detroit Grain Inspection Service, Inc. With that purchase, North Dakota Grain Inspection Service requested and AMS authorized the assignment of the geographic area previously serviced by Detroit Grain Inspection Service to be included in the geographic description of the Fargo, North Dakota area.

Deadlines for Comments and Applications

The table below lists the dates the USGSA designations for Ohio Valley Grain Inspection and North Dakota Grain Inspection Service will end. The table also lists the open periods for submitting applications to provide official services in the designated areas or comments about the agencies.

Official agency | Headquarters location and telephone | Designation end | Applications/comments open period
Ohio Valley Grain Inspection, Inc | Evansville, Indiana, 812-423-9010 | 07/31/2025 | 03/01/2025-03/31/2025
North Dakota Grain Inspection Service, Inc | Fargo, North Dakota, 701-293-7420 | 12/31/2025 | 08/01/2025-08/31/2025

Designation Timelines

Interested private entities or state governmental agencies may apply for designation to provide official services in the geographic areas noted above under the provisions of section 7(f) of the USGSA (7 U.S.C. 79(f)) and 7 CFR 800.196. Designations in the specified geographic area of Evansville, Indiana will occur no sooner than August 1, 2025. Designations in the specified geographic area of Fargo, North Dakota will occur no sooner than January 1, 2026. To request assistance with the designation application process or more information on the geographic areas serviced by these official agencies, please contact FGISQACD@usda.gov.

Melissa Bailey,
Associate Administrator, Agricultural Marketing Service.

[FR Doc. 2025-00266 Filed 1-8-25; 8:45 am]

BILLING CODE P